DEPARTMENT OF ENERGY

Federal Energy Regulatory Commission

[Docket No. RP04-23-002]

Gas Transmission Northwest Corporation; Notice of Tariff Filing

November 28, 2003.

Take notice that on November 25, 2003, Gas Transmission Northwest Corporation (GTN) tendered for filing as part of its FERC Gas Tariff, Third Revised Volume No. 1-A, Substitute First Revised Sheet No. 23 to correct a rate reference on First Revised Sheet No. 23. GTN requests that the Commission accept the above-referenced tariff sheet to be effective on October 6, 2003.

GTN further states that a copy of this filing has been served on GTN's jurisdictional customers and interested state regulatory agencies.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linda Mitry,
Acting Secretary.

[FR Doc. E3-00456 Filed 12-3-03; 8:45 am]

BILLING CODE 6717-01-P